FEDERAL COMMUNICATIONS COMMISSION

Notice of Public Information Collection(s) Being Submitted to OMB for Review and Approval

September 7, 2001.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before October 15, 2001. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0849.

Title: Commercial Availability of Navigation Devices.

Form Number: N/A.

Type of Review: Extension of a currently approved collection.

Respondents: Businesses or other for-profit entities.

Number of Respondents: 200.

Estimated Time per Response: 10 mins. to 40 hrs.

Frequency of Response: Semi-annual reporting requirement; Third party disclosure.

Total Annual Burden: 3,266 hours.

Total Annual Costs: None.

Needs and Uses: The disclosure requirements set forth in this proceeding will ensure that consumers can make informed decisions about the purchase and proper installation of navigation devices. The petition process under 47 CFR Section 76.1207 will give providers of multichannel video programming and equipment providers a forum in which to request relief from regulations adopted under this part of FCC Rules for a limited time, provided that there is an appropriate showing that such a waiver is necessary to assist the development or introduction of a new or improved multichannel video programming or other service offered over multichannel video programming systems, technology, or products. In addition, under 47 CFR Section 76.1208, petition process allows interested parties to petition the FCC to provide for a sunset of regulations governing navigation devices. The Commission will use the semi-annual reports to monitor the progress of key industry entities in their efforts to assure the commercial availability of navigation devices.

Federal Communications Commission.
Magalie Roman Salas,
Secretary.

[FR Doc. 01-23053 Filed 9-13-01; 8:45 am]

BILLING CODE 6712-01-P